DEPARTMENT OF DEFENSE

Department of the Army, Corps of Engineers

Withdrawal of Notice of Intent To Prepare a Supplemental Environmental Impact Statement for a Proposed 278 Megawatt Circulating Fluidized Bed Electric Generating Unit by East Kentucky Power Cooperative, Inc., in Clark County, KY

AGENCY: U.S. Army Corps of Engineers, DoD.

ACTION: Withdrawal of notice.

SUMMARY: The Louisville District of the U.S. Army Corps of Engineers (Corps) today withdraws its Notice of Intent (74 FR 48236, September 22, 2009) to prepare a Supplemental Environmental Impact Statement (SEIS) for a proposed 278 megawatt circulating fluidized bed electric generating unit by East Kentucky Power Cooperative, Inc. (EKPC), in Clark County, Kentucky. EKPC withdrew its application for a Section 404 of the Clean Water Act and Section 10 of the Rivers and Harbors Act permit to construct the facility permit on December 3, 2010.

FOR FURTHER INFORMATION CONTACT: Mr. Michael Hasty, Senior Project Manager, South Section, Regulatory Branch, Louisville District, P.O. Box 59, Louisville, KY 40201-0059. Phone: (502) 315-6676, e-mail: michael.d.hasty@usace.army.mil.

SUPPLEMENTARY INFORMATION: EKPC applied for a Department of the Army (DA) permit from the Corps on October 8, 2008. The application requested authorization for unavoidable impacts to jurisdictional waters of the U.S. pursuant to Section 404 of the Clean Water Act and Section 10 of the Rivers and Harbors Act. The Proposed Action involved the construction and operation of a 278 megawatt circulating fluidized bed electric generating unit and associated infrastructure at the existing J.K. Smith Power Station in southern Clark County, Kentucky. Other appurtenant features of the Proposed Action included: An approximately one-mile, 345 kV electric transmission line; two (2) beneficial reuse structural fills using coal combustion by-products (CCB); two (2) landfills for the on-site disposal of CCB; an emergency drought water storage reservoir; several soil borrow areas for landfill cover and other site development uses; and a new water intake/outfall structure in the Kentucky River.

The Corps announced the NOI to prepare a SEIS to evaluate the potential effects of the Proposed Action on the environment on September 22, 2009 (74 FR 48236). The Corps also made a Draft SEIS available for comment on April 9, 2010 (75 FR 18166). A Public Hearing was held on June 8, 2010 in Winchester, KY. At the time of EKPC's withdrawal, the Corps was evaluating comments received at the Public Hearing and in response to the NOI in preparation of a Final SEIS. Due to a variety of factors, EKPC withdrew its application for a Department of the Army permit to construct the facility on December 3, 2010.

Dated: April 4, 2011.
Keith A. Landry,
Colonel, Corps of Engineers, District Commander.

[FR Doc. 2011-9000 Filed 4-12-11; 8:45 am]

BILLING CODE 3720-58-P